DEPARTMENT OF THE INTERIOR

Fish and Wildlife Service

50 CFR Part 17

RIN 1018-AT38

Endangered and Threatened Wildlife and Plants; Designating the Greater Yellowstone Ecosystem Population of Grizzly Bears as a Distinct Population Segment; Removing the Yellowstone Distinct Population Segment of Grizzly Bears From the Federal List of Endangered and Threatened Wildlife

AGENCY: Fish and Wildlife Service, Interior.

ACTION: Proposed rule; extension of comment period.

SUMMARY: We, the U.S. Fish and Wildlife Service (Service), announce an extension of the comment period for the proposed rule to establish a distinct population segment (DPS) of the grizzly bear (Ursus arctos horribilis) for the greater Yellowstone Ecosystem and surrounding area and remove the Yellowstone DPS from the List of Threatened and Endangered Wildlife. Comments previously submitted need not be resubmitted as they have already been incorporated into the public record and will be fully considered in the final decision and rule.

DATES: The public comment period is extended until March 20, 2006. Any comments that are received after the closing date may not be considered in the final decision on the proposal.

ADDRESSES: If you wish to comment on the proposal, you may submit your comments and materials concerning the proposal by any one of several methods—

1. You may submit written comments to the Grizzly Bear Recovery Coordinator, U.S. Fish and Wildlife Service, University Hall 309, University of Montana, Missoula, Montana 59812.

2. You may hand deliver written comments to our Missoula office at the address given above.

3. You may send comments by electronic mail (e-mail) to FW6_grizzly_yellowstone@fws.gov. See the Public Comments Solicited section below for file format and other information about electronic filing.

Comments and materials received, as well as supporting documentation used in preparation of the proposed action, will be available for inspection after the close of the public comment period, by appointment, during normal business hours, at our Missoula office (See address above).

FOR FURTHER INFORMATION CONTACT: Dr. Christopher Servheen, Grizzly Bear Recovery Coordinator, U.S. Fish and Wildlife Service, at our Missoula office (see address above) or telephone (406) 243-4903. Persons who use a Telecommunications Device for the Deaf may call the Federal Information Relay Service at 1-800-877-8339, 24 hours a day, 7 days a week.

SUPPLEMENTARY INFORMATION:

Background

On November 17, 2005, the Service published a proposal to establish a DPS of the grizzly bear (Ursus arctos horribilis) for the greater Yellowstone Ecosystem and surrounding area and to remove the Yellowstone DPS from the List of Threatened and Endangered Wildlife (70 FR 69854). Robust population growth, coupled with State and Federal cooperation to manage mortality and habitat, widespread public support for grizzly bear recovery, and the development of adequate regulatory mechanisms, has brought the Yellowstone grizzly bear population to the point where making a change to its status is appropriate. The proposed delisting of the Yellowstone DPS would not change the threatened status of the remaining grizzly bears in the lower 48 States, which would remain protected by the Endangered Species Act (16 U.S.C. 1531 et seq.). The comment period on this proposal opened for 60 days on November 17, 2005. Due to the complexity of this proposed action, we are extending the comment period for an additional 30 days to allow all interested members of the public ample opportunity to comment.

Public Comments Solicited

We intend that any final action resulting from the proposed rule will be as accurate and as effective as possible. Therefore, we solicit comments or suggestions from the public, other concerned governmental agencies, the scientific community, industry, or any other interested party concerning the proposed rule. Generally, we seek information, data, and comments concerning the status of grizzly bears in the Yellowstone ecosystem. Specifically, we seek documented, biological data on the status of the Yellowstone ecosystem grizzly bears and their habitat, and the management of these bears and their habitat.

Submit comments as indicated under ADDRESSES. If you wish to submit comments by e-mail, please avoid the use of special characters and any form of encryption. Please also include your name and return address in your e-mail message.

Our practice is to make comments, including names and home addresses of respondents, available for public review during regular business hours. Individual respondents may request that we withhold their home address from the rulemaking record, which we will honor to the extent allowable by law. There also may be circumstances in which we would withhold from the rulemaking record a respondent's identity, as allowable by law. If you wish us to withhold your name or address, you must state this prominently at the beginning of your comment. However, we will not consider anonymous comments. We will make all submissions from organizations or businesses, and from individuals identifying themselves as representatives or officials of organizations or businesses, available for public inspection in their entirety. Comments and other information received, as well as supporting information used to write the proposal, will be available for public inspection, by appointment, during normal business hours at our Missoula Office (see ADDRESSES). In making a final decision on the proposed rule, we will take into consideration the comments and any additional information we receive. Such communications may lead to a final rule that differs from the proposal.

Authority

The authority for this action is the Endangered Species Act of 1973 (16 U.S.C. 1531 et seq.).

Dated: February 9, 2006.
Marshall P. Jones, Jr.,
Acting Director, U.S. Fish and Wildlife Service.

[FR Doc. E6-2205 Filed 2-15-06; 8:45 am]

BILLING CODE 4310-55-P